DEPARTMENT OF TRANSPORTATION

Federal Aviation Administration

14 CFR Part 39

[Docket No. FAA-2012-1251; Directorate Identifier 2012-CE-044-AD]

RIN 2120-AA64

Airworthiness Directives; Pacific Aerospace Limited Airplanes

AGENCY: Federal Aviation Administration (FAA), Department of Transportation (DOT).

ACTION: Notice of proposed rulemaking (NPRM).

SUMMARY: We propose to adopt a new airworthiness directive (AD) for all Pacific Aerospace Limited Models FU24-954 and FU24A-954 airplanes that would supersede an existing AD. This proposed AD results from mandatory continuing airworthiness information (MCAI) originated by an aviation authority of another country to identify and correct an unsafe condition on an aviation product. The MCAI describes the unsafe condition as aircraft operating outside the aircraft aft center of gravity (C of G) limits during parachute-drop operations. Exceeding C of G limits could result in loss of control of the aircraft. We are issuing this proposed AD to require actions to address the unsafe condition on these products.

DATES: We must receive comments on this proposed AD by January 14, 2013.

ADDRESSES: You may send comments by any of the following methods:

• Federal eRulemaking Portal: Go to http://www.regulations.gov. Follow the instructions for submitting comments.

• Fax: (202) 493-2251.

• Mail: U.S. Department of Transportation, Docket Operations, M-30, West Building Ground Floor, Room W12-140, 1200 New Jersey Avenue SE., Washington, DC 20590.

• Hand Delivery: U.S. Department of Transportation, Docket Operations, M-30, West Building Ground Floor, Room W12-140, 1200 New Jersey Avenue SE., Washington, DC 20590, between 9 a.m. and 5 p.m., Monday through Friday, except Federal holidays.

Examining the AD Docket

You may examine the AD docket on the Internet at http://www.regulations.gov; or in person at the Docket Management Facility between 9 a.m. and 5 p.m., Monday through Friday, except Federal holidays. The AD docket contains this proposed AD, the regulatory evaluation, any comments received, and other information. The street address for the Docket Office (telephone (800) 647-5527) is in the ADDRESSES section. Comments will be available in the AD docket shortly after receipt.

FOR FURTHER INFORMATION CONTACT: Karl Schletzbaum, Aerospace Engineer, FAA, Small Airplane Directorate, 901 Locust, Room 301, Kansas City, Missouri 64106; telephone: (816) 329-4146; fax: (816) 329-4090; email: karl.schletzbaum@faa.gov.

SUPPLEMENTARY INFORMATION:

Comments Invited

We invite you to send any written relevant data, views, or arguments about this proposed AD. Send your comments to an address listed under the ADDRESSES section. Include “Docket No. FAA-2012-1251; Directorate Identifier 2012-CE-044-AD” at the beginning of your comments. We specifically invite comments on the overall regulatory, economic, environmental, and energy aspects of this proposed AD. We will consider all comments received by the closing date and may amend this proposed AD because of those comments.

We will post all comments we receive, without change, to http://regulations.gov, including any personal information you provide. We will also post a report summarizing each substantive verbal contact we receive about this proposed AD.

Discussion

On September 21, 2010, we issued AD 2010-20-18, Amendment 39-16453 (75 FR 59606, September 28, 2010). That AD required actions intended to address an unsafe condition on the products listed above.

Since we issued AD 2010-20-18, Amendment 39-16453 (75 FR 59606, September 28, 2010), information has been received that shows that the operating limitations required by this AD should be different between turbine engine and piston engine Pacific Aerospace Limited Models FU24-954 and FU24A-954 airplanes.

The Civil Aviation Authority (CAA), which is the aviation authority for New Zealand, has issued AD DCA/FU24/182, dated October 25, 2012 (referred to after this as “the MCAI”), to correct an unsafe condition for the specified products. The new MCAI AD supersedes the requirements in AD DCA/FU24/179.

The new MCAI requires adding a requirement to install station marking placards inside the rear cabin walls and inserting a supplement into the airplane flight manual (AFM) specifically approved for parachuting operations that contains detailed information for determining the weight and balance of the aircraft for turbine engine airplanes. This proposed AD also retains all actions in AD 2010-20-18, Amendment 39-16453 (75 FR 59606, September 28, 2010), for all airplanes.

FAA's Determination and Requirements of the Proposed AD

This product has been approved by the aviation authority of another country, and is approved for operation in the United States. Pursuant to our bilateral agreement with this State of Design Authority, they have notified us of the unsafe condition described in the MCAI and service information referenced above. We are proposing this AD because we evaluated all information and determined the unsafe condition exists and is likely to exist or develop on other products of the same type design.

Costs of Compliance

We estimate that this proposed AD would affect 1 product of U.S. registry. We also estimate that it would take about 22 work-hours per product to comply with the basic requirements of this proposed AD. The average labor rate is $85 per work-hour.

Based on these figures, we estimate the cost of the proposed AD on U.S. operators to be $1,870 per product.

Authority for This Rulemaking

Title 49 of the United States Code specifies the FAA's authority to issue rules on aviation safety. Subtitle I, section 106, describes the authority of the FAA Administrator. “Subtitle VII: Aviation Programs,” describes in more detail the scope of the Agency's authority.

We are issuing this rulemaking under the authority described in “Subtitle VII, Part A, Subpart III, section 44701: General requirements.” Under that section, Congress charges the FAA with promoting safe flight of civil aircraft in air commerce by prescribing regulations for practices, methods, and procedures the Administrator finds necessary for safety in air commerce. This regulation is within the scope of that authority because it addresses an unsafe condition that is likely to exist or develop on products identified in this rulemaking action.

Regulatory Findings

We determined that this proposed AD would not have federalism implications under Executive Order 13132. This proposed AD would not have a substantial direct effect on the States, on the relationship between the national Government and the States, or on the distribution of power and responsibilities among the various levels of government.

For the reasons discussed above, I certify this proposed regulation:

(1) Is not a “significant regulatory action” under Executive Order 12866,

(2) Is not a “significant rule” under the DOT Regulatory Policies and Procedures (44 FR 11034, February 26, 1979),

(3) Will not affect intrastate aviation in Alaska, and

(4) Will not have a significant economic impact, positive or negative, on a substantial number of small entities under the criteria of the Regulatory Flexibility Act.

List of Subjects in 14 CFR Part 39

Air transportation, Aircraft, Aviation safety, Incorporation by reference, Safety.

The Proposed Amendment

Accordingly, under the authority delegated to me by the Administrator, the FAA proposes to amend 14 CFR part 39 as follows:

PART 39—AIRWORTHINESS DIRECTIVES

1. The authority citation for part 39 continues to read as follows:

Authority: 49 U.S.C. 106(g), 40113, 44701.

§ 39.13 [Amended]

2. The FAA amends § 39.13 by removing AD 2010-20-18, Amendment 39-16453 (75 FR 59606, September 28, 2010), and adding the following new AD:

Pacific Aerospace Limited: Docket No. FAA-2012-1251; Directorate Identifier 2012-CE-044-AD.

(a) Comments Due Date

We must receive comments by January 14, 2013.

(b) Affected ADs

This AD supersedes AD 2010-20-18, Amendment 39-16453 (75 FR 59606, September 28, 2010).

(c) Applicability

This AD applies to Pacific Aerospace Limited Models FU24-954 and FU24A-954 airplanes, all serial numbers, that are:

(1) certificated in any category; and

(2) modified to conduct parachute operations.

(d) Subject

Air Transport Association of America (ATA) Code 8: Leveling and Weighing.

(e) Reason

This AD was prompted by reports of aircraft operating outside the aft center of gravity (C of G) limits during parachute-drop operations. We are issuing this AD to prevent exceeding C of G limits, which could result in loss of control of the aircraft.

(f) Actions and Compliance for All Airplanes (Both Turbine and Piston Engine Airplanes) Retained From AD 2010-20-18, Amendment 39-16453 (75 FR 59606, September 28, 2010)

Unless already done, do the following actions:

(1) As of October 18, 2010 (the effective date retained from AD 2010-20-18, Amendment 39-16453 (75 FR 59606, September 28, 2010)), before further parachute-drop operations:

(i) Amend the airplane flight manual (AFM) to restrict maximum occupancy of the cabin aft of fuselage station (F.S) 118.84 to 6 persons. This may be done by inserting a copy of this AD into the AFM adjacent to the applicable supplement for parachuting operations; and

(ii) Fabricate a placard at least 2 by 4 inches (using at least ⅛-inch letters) and install the placard in two places, one on each side of the aft cabin, in view of all occupants as they enter and occupy the cabin which states the following: Maximum occupancy of this cabin limited to six persons for parachuting operations. Weight and Balance must be confirmed for each flight.

(2) As of October 18, 2010 (the effective date retained from AD 2010-20-18, Amendment 39-16453 (75 FR 59606, September 28, 2010)), before further parachute-drop operations, the weight and balance calculation must comply with the following limitations and establish that the aircraft C of G will remain within AFM limits for the duration of the flight:

(i) Use actual weights for all occupants and their equipment to do the calculation;

(ii) Account for the positions of all occupants in the calculation. Do the calculation with the occupants' (parachuting group) positions at the most aft positions that result from the rearmost members of the group sitting against the aft cabin wall and subsequent occupants located immediately forward of them, unless a means of restraint is provided to prevent the occupants moving rearwards from their normal position; and (iii) Keep a record of the C of G determination for each parachuting operation.

(g) New Actions and Compliance for Turbine Engine Airplanes

Within the next 15 days after the effective date of this AD, do the following:

(1) Add fuselage station (F.S.) reference line placards inside the rear cabin walls following the instructions in Section 2.5, Placards, of the CAA Approved AFM Supplement for Aircraft Modified for Parachuting Operations, PT6 Fletcher-EX Document Reference: AIR 2817-FMS-P1, dated October 15, 2012, or Walter Fletcher Document Reference: AIR 2672-FMS-P1, dated October 15, 2012, as applicable.

(2) Insert Section 2.4, Weight and Balance, of the CAA Approved AFM Supplement for Aircraft Modified for Parachuting Operations, PT6 Fletcher-EX Document Reference: AIR 2817-FMS-P1, dated October 15, 2012, or Walter Fletcher Document Reference: AIR 2672-FMS-P1, dated October 15, 2012, as applicable, into the AFM.

(h) Other FAA AD Provisions

The following provisions also apply to this AD:

(1) Alternative Methods of Compliance (AMOCs): The Manager, Standards Office, FAA, has the authority to approve AMOCs for this AD, if requested using the procedures found in 14 CFR 39.19. Send information to ATTN: Karl Schletzbaum, Aerospace Engineer, FAA, Small Airplane Directorate, 901 Locust, Room 301, Kansas City, Missouri 64106; telephone: (816) 329-4146; fax: (816) 329-4090; email: karl.schletzbaum@faa.gov. Before using any approved AMOC on any airplane to which the AMOC applies, notify your appropriate principal inspector (PI) in the FAA Flight Standards District Office (FSDO), or lacking a PI, your local FSDO.

(2) Airworthy Product: For any requirement in this AD to obtain corrective actions from a manufacturer or other source, use these actions if they are FAA-approved. Corrective actions are considered FAA-approved if they are approved by the State of Design Authority (or their delegated agent). You are required to assure the product is airworthy before it is returned to service.

(3) Reporting Requirements: For any reporting requirement in this AD, a federal agency may not conduct or sponsor, and a person is not required to respond to, nor shall a person be subject to a penalty for failure to comply with a collection of information subject to the requirements of the Paperwork Reduction Act unless that collection of information displays a current valid OMB Control Number. The OMB Control Number for this information collection is 2120-0056. Public reporting for this collection of information is estimated to be approximately 5 minutes per response, including the time for reviewing instructions, completing and reviewing the collection of information. All responses to this collection of information are mandatory. Comments concerning the accuracy of this burden and suggestions for reducing the burden should be directed to the FAA at: 800 Independence Ave. SW., Washington, DC 20591, Attn: Information Collection Clearance Officer, AES-200.

(i) Related Information

Refer to MCAI Civil Aviation Authority of New Zealand AD DCA/FU24/182, dated October 25, 2012; CAA Approved Flight Manual Supplement PT6 Fletcher-EX for Aircraft Modified for Parachuting Operations, Document Reference: AIR 2817-FMS-P1, dated October 15, 2012; and CAA Approved Flight Manual Supplement Walter Fletcher for Aircraft Modified for Parachuting Operations, Document Reference: AIR 2672-FMS-P1, dated October 15, 2012, for related information.

Issued in Kansas City, Missouri, on November 21, 2012.
Earl Lawrence,
Manager, Small Airplane Directorate, Aircraft Certification Service.

[FR Doc. 2012-29026 Filed 11-29-12; 8:45 am]

BILLING CODE 4910-13-P